DEPARTMENT OF THE INTERIOR

Bureau of Land Management

[LLORW00000-L16100000.DP0000-LXSSH0930000-16XL1109AF; HAG-16-0025]

Notice of Realty Action: Classification of Lands as Suitable for Recreation and Public Purposes Act Lease, WA

AGENCY: Bureau of Land Management.

ACTION: Notice of realty action.

SUMMARY: The Bureau of Land Management (BLM) has examined and found suitable for classification and lease to the City of Port Angeles under the provisions of the Recreation and Public Purposes (R&PP) Act, as amended, approximately 16.91 acres of public land in Clallam County, Washington, more commonly known as Ediz Hook. The City of Port Angeles proposes to use the area for public recreation and other public purposes.

DATES: Interested parties may submit written comments regarding the proposed classification and lease of public lands on or before February 29, 2016.

ADDRESSES: Written comments concerning this notice should be addressed to Linda Coates-Markle, Wenatchee Field Office Manager, BLM, Wenatchee Field Office, 915 Walla Walla Avenue, Wenatchee, WA 98801.

FOR FURTHER INFORMATION CONTACT: Linda Coates-Markle, Wenatchee Field Manager, 915 Walla Walla Avenue, Wenatchee, WA; by phone at 509-665-2100, or by email at lcmarkle@blm.gov. Persons who use a telecommunications device for the deaf (TDD) may call the Federal Information Relay Service (FIRS) at 1-800-877-8339 to contact the above individual during normal business hours. The FIRS is available 24 hours a day, 7 days a week to leave a message or question with the above individual. Responses will occur during normal business hours.

Additional information pertaining to this action can be reviewed in case file WAOR- 41737 located in the Wenatchee Field Office at the above address.

SUPPLEMENTARY INFORMATION: In accordance with the “Elwha River Ecosystem and Fisheries Restoration Act” (Pub. L. 102-495, 106 Stat. 3173.3177), the Secretary of the Interior is authorized by the U.S. Congress to issue a 99 year lease to the City of Port Angeles for the following described public lands, using the provisions of the R&PP Act, as amended (43 U.S.C. 969 et seq.).

Willamette Meridian

T. 31 N., R. 6 W.,

Out lots 4, 5, 14, and out lot 7 except the easterly 4.63 acres contained in the U.S. Coast Guard Lighthouse Reservation.

The area described contains approximately 16.91 acres, more or less, in Clallam County, Washington.

The lease to be issued by the BLM will replace an expired 99 year lease that was authorized by the U.S. Coast Guard. The subject lands will continue to be used by the City for public recreation and other public purposes. Classification of the land prior to the BLM's issuance of a lease is a requirement of the R&PP Act, as amended (43 U.S.C. 969 et seq.).

The lease, when issued, will be subject to the following terms and conditions:

1. Provisions of the R&PP Act, as amended (43 U.S.C. 969 et seq.), and to all applicable regulations of the Secretary of the Interior.

2. Requirement for lessee to have an approved, qualified Archaeologist on site during any new excavation activities to monitor potential effects to cultural resources.

3. Requirement for lessee to comply with navigable airspace obstruction standards established by the Federal Aviation Administration (FAA), commonly known as the “Federal Aviation Regulations,” which can be found in Part 77 of Title 14 of the Code of Federal Regulations (14 CFR 77), as amended; and in FAA “Advisory Circulars.” Also, the lessee shall not construct, place, install, nor allow to be constructed, placed, or installed, any building, structure, or other object that interferes, obstructs, or otherwise creates a hazard to air navigation for the U.S. Coast Guard's Runway 07/25 at Coast Guard Air Station Port Angeles, located adjacent to the leased premises on Ediz Hook. Upon publication of this notice in the Federal Register, the lands will be segregated from all other forms of appropriation under the public land laws, including the general mining laws, except for lease under the R&PP Act, as amended (43 U.S.C. 969 et seq.) and leasing under the mineral leasing laws.

Application Comments: Only written comments submitted via the U.S. Postal Service or other delivery service, or hand delivered to the BLM Wenatchee Field Office, will be considered properly filed. Electronic mail, facsimile, or telephone comments will not be considered properly filed. Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Oregon/Washington State Director who may sustain, vacate, or modify this realty action. In the absence of any adverse comments, the classification will become effective March 14, 2016. The land will not be available for lease until after the classification becomes effective.

Linda Coates-Markle,
Wenatchee Field Office Manager.

[FR Doc. 2016-00631 Filed 1-13-16; 8:45 am]

BILLING CODE 4310-33-P